DEPARTMENT OF ENERGY

Federal Energy Regulatory Commission

Combined Notice of Filings #1

June 19, 2009.

Take notice that the Commission received the following electric rate filings:

Docket Numbers: ER07-407-006; ER08-1111-004; ER08-1227-003.

Applicants: High Prairie Wind Farm II, LLC; Pioneer Prairie Wind Farm I, LLC; Rail Splitter Wind Farm, LLC.

Description: High Prairie Wind Farm II, LLC et al submits Original Sheet 1 to FERC Electric Tariff, Second Revised Volume 1.

Filed Date: 06/17/2009.

Accession Number: 20090619-0043.

Comment Date: 5 p.m. Eastern Time on Wednesday, July 08, 2009.

Docket Numbers: ER08-394-022.

Applicants: Midwest Independent Transmission System Operator, Inc.

Description: Midwest Independent Transmission System Operator, Inc. submits proposed Revisions to its Open Access Transmission, Energy and Operating Reserves Markets Tariff, to comply with the Commission's 4/16/09 directives.

Filed Date: 06/17/2009.

Accession Number: 20090619-0044.

Comment Date: 5 p.m. Eastern Time on Wednesday, July 08, 2009.

Docket Numbers: ER09-1193-001.

Applicants: Palmco Power CT, LLC.

Description: Palmco Power CT, LLC informs the FERC of the withdrawal of ER09-1131 and Amendment for the Petition for Acceptance of Initial Tariff, Waivers and Blanket Authority.

Filed Date: 06/09/2009.

Accession Number: 20090610-0105.

Comment Date: 5 p.m. Eastern Time on Tuesday, June 30, 2009.

Docket Numbers: ER09-1194-001.

Applicants: Palmco Power NJ, LLC.

Description: Palmco Power NJ, LLC informs the FERC of the withdrawal of ER09-1132 and Amendment for the Petition for Acceptance of Initial Tariff, Waivers and Blanket Authority.

Filed Date: 06/09/2009.

Accession Number: 20090610-0106.

Comment Date: 5 p.m. Eastern Time on Tuesday, June 30, 2009.

Docket Numbers: ER09-1195-001.

Applicants: Palmco Power PA, LLC.

Description: Palmco Power PA, LLC submits notice of withdrawal of docket no. ER09-1133 and Amendment for the Petition for Acceptance of Initial Tariff, Waivers and Blanket Authority.

Filed Date: 06/09/2009.

Accession Number: 20090610-0107.

Comment Date: 5 p.m. Eastern Time on Tuesday, June 30, 2009.

Docket Numbers: ER09-1317-000.

Applicants: New York Independent System Operator, Inc.

Description: New York Independent Operator, Inc. requests that the Commission defer the effective date of the tariff revisions pertaining to the enhanced credit requirements for Virtual Transaction from 7/17/09 until 9/17/09.

Filed Date: 06/16/2009.

Accession Number: 20090618-0128.

Comment Date: 5 p.m. Eastern Time on Friday, June 26, 2009.

Docket Numbers: ER09-1319-000.

Applicants: New York Independent System Operator, Inc.

Description: New York Independent System Operator, Inc. submits Notification of Tariff Implementation Error and Request for Limited Tariff Waivers etc.

Filed Date: 06/17/2009.

Accession Number: 20090618-0129.

Comment Date: 5 p.m. Eastern Time on Wednesday, July 08, 2009.

Docket Numbers: ER09-1324-000.

Applicants: New York State Electric & Gas Corporation.

Description: New York State Electric & Gas Corporation submits an executed version of Original Service Agreement 1472 to FERC Electric Tariff, Original Volume 1 to be effective 6/21/09.

Filed Date: 06/18/2009.

Accession Number: 20090619-0082.

Comment Date: 5 p.m. Eastern Time on Thursday, July 09, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-15261 Filed 6-26-09; 8:45 am]

BILLING CODE 6717-01-P